DEPARTMENT OF THE INTERIOR

Fish and Wildlife Service

Notice of Availability of the Draft Joint Restoration Plan and Environmental Assessment for the Lower Fox River and Green Bay Area

AGENCY: Fish and Wildlife Service, Interior, lead; National Oceanic and Atmospheric Administration, Commerce, cooperating agency; Bureau of Indian Affairs, Interior, invited to be a cooperating agency, response pending.

ACTION: Notice of 30 day comment period.

SUMMARY: This notice advises the public and other agencies of the availability of the draft document titled “Joint Restoration Plan and Environmental Assessment for the Lower Fox River and Green Bay Area” (Plan) for public review and comment. Prior to implementing restoration projects Federal agencies are required to analyze alternatives to restore, rehabilitate, replace and/or acquire the equivalent of those natural resources injured and related services lost to the public associated with those resources. This analysis is contained in the Plan as required by the National Environmental Protection Act (NEPA) for the Federal action of restoration project implementation. This notice is provided pursuant to Natural Resource Damage Assessment and Restoration (NRDAR) regulations (43 CFR 11.81(d)(4)) and NEPA regulations (40 CFR 1506.6).

DATES: Written comments must be received on or before October 21, 2002.

ADDRESSES: Persons wishing to review the document may obtain copies by contacting: Colette S. Charbonneau, 1015 Challenger Court, Green Bay, Wisconsin 54311, Telephone: (920) 465-7407, Fax: (920) 465-7410, e-mail: colette_charbonneau@fws.gov. The document is also available at the following Internet address: http://midwest.fws.gov/nepa/. SeeSUPPLEMENTARY INFORMATION section for library addresses where copies may also be viewed.

SUPPLEMENTARY INFORMATION:

Background

The U.S. Department of the Interior (represented by the U.S. Fish and Wildlife Service and the Bureau of Indian Affairs), U.S. Department of Commerce (represented by the National Oceanic and Atmospheric Administrations), Oneida Tribe of Indians of Wisconsin, Menominee Indian Tribe of Wisconsin, Wisconsin Department of Natural Resources and Michigan Attorney General (Trustees) are trustees for natural resources considered in this NRDAR project, pursuant to subpart G of the National Oil and Hazardous Substances Pollution Contingency Plan (40 CFR 300.600 and 300.610) and Executive Order 12580.

The Trustees have a Memorandum of Agreement which establishes a Trustee Council to develop and implement a restoration plan for ecological restorations in the Fox River Valley and Green Bay watershed. The Trustees followed the NRDAR regulations found at 43 CFR part 11 for the development of the Plan.

The draft Joint Restoration Plan and Environmental Assessment will be finalized prior to implementation after all public comments received during the public comment period are considered. Any significant additions or modifications to the Plan as restoration actions proceed will be made available for public review before any tasks called for in the addendum or modification are undertaken.

The objective of the NRDAR process in the Lower Fox River and Green Bay area is to compensate the public, through environmental restoration, for losses to natural resources that have been caused by historic releases of polychlorinated biphenyls (PCBs) into the environment. The Comprehensive Environmental Response, Compensation and Liability Act (CERCLA, more commonly known as the Federal “Superfund” law) [42 U.S.C. 9601, et seq.] and the Federal Water Pollution Control Act (commonly known as the Clean Water Act (CWA)) [33 U.S.C. 1251, et seq.] authorize states, federally recognized tribes, and certain Federal agencies that have authority to manage or control natural resources, to act as “trustees” on behalf of the public, to restore, rehabilitate, replace, and/or acquire natural resources equivalent to those harmed by release of hazardous substances. The Trustees have worked together, in a cooperative process, to determine appropriate restoration activities to address natural resource injuries caused by historic releases of PCBs into the Lower Fox River and Green Bay environment. The results of this administrative process are contained in a series of planning and decision documents that have been published for public review under CERCLA and the CWA. Natural resource damages received, either through negotiated settlements or adjudicated awards, must be used to restore, rehabilitate, replace and/or acquire the equivalent of those natural resources that have been injured. The Plan addresses the Trustees' overall approach to restore, rehabilitate, replace or acquire the equivalent of natural resources injured by the release of PCBs into the Lower Fox River and Green Bay environment.

Public Involvement

Interested members of the public are invited to review and comment on the Plan. Copies can be requested from the address listed above. Comments on the Plan should be sent to the U.S. Fish and Wildlife Service at the address listed above. The U.S. Fish and Wildlife Service will provide copies of all comments to the other Trustees. All comments received from individuals become part of the official public record. Requests for such comments will be handled in accordance with the Freedom of Information Act and the Council on Environmental Quality's NEPA regulations (40 CFR 1506.6(f)). Our practice is to make comments, including names and home addresses of respondents, available for public review during regular business hours. Individual respondents may request that we withhold their home address from record, which we will honor to the extent allowable by law. If a respondent wishes us to withhold his/her name and/or address, this must be stated prominently at the beginning of the comment.

Addresses

In addition to obtaining a personal copy of the document at the address listed above, copies will also be available for onsite review at the Appleton Public Library, 225 North Oneida Street, Appleton, Wisconsin; Brown County Library, 515 Pine Street, Green Bay, Wisconsin; Door County Library, 104 South Fourth Avenue, Sturgeon Bay, Wisconsin; Oneida Community Library, 201 Elm Street, Oneida, Wisconsin; Oshkosh Public Library, 106 Washington Avenue, Oshkosh, Wisconsin; and the Escanaba Public Library, 400 Ludington Street, Escanaba, Michigan.

Dated: September 6, 2002.
William F. Hartwig,
Regional Director, Region 3, Fort Snelling, MN.

[FR Doc. 02-23787 Filed 9-18-02; 8:45 am]

BILLING CODE 4310-55-P